DEPARTMENT OF JUSTICE

[OMB Number 1121-0102]

Agency Information Collection Activities; Proposed eCollection eComments Requested; Extension, With Changes, of a Currently Approved: Title—National Prisoner Statistics program (NPS)

AGENCY: Bureau of Justice Statistics, Department of Justice.

ACTION: 60-Day notice.

SUMMARY: The Bureau of Justice Statistics (BJS), Department of Justice (DOJ) will be submitting the following information collection request to the Office of Management and Budget (OMB) for review and approval in accordance with the Paperwork Reduction Act of 1995.

DATES: Comments are encouraged and will be accepted for 60 days until September 22, 2025.

FOR FURTHER INFORMATION CONTACT:

If you have comments especially on the estimated public burden or associated response time, suggestions, or need a copy of the proposed information collection instrument with instructions or additional information, please contact Derek Mueller, Statistician, Bureau of Justice Statistics, 999 N Capitol St. NE, 8th Floor, Washington, DC 20531 (email: bjspra.comments@ojp.usdoj.gov; telephone: 202-307-0765).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including using appropriate automated, electronic, mechanical, or other technological collection techniques or other forms of information technology, e.g., permitting electronic submission of responses.

Abstract: Through the National Prisoner Statistics program (NPS), the Bureau of Justice Statistics (BJS) collects annual aggregate counts of prisoners in the custody and under the jurisdiction of state and federal correctional authorities, as well as the number of persons admitted or released. BJS uses the NPS to report each year on the changes to and movement through state and federal prison systems by sentenced individuals. These statistics contribute fundamentally to BJS's mission of describing the movements of persons through the criminal justice system. Revisions to the collection include removing the HIV/AIDS module from the survey in part due to minimal year over year change in counts. These items may be included with other health-related questions in periodic supplements as part of the NPS program. Additionally, BJS plans to cognitively test a new format for collecting race and ethnicity data in alignment with the revised 2024 OMB Statistical Policy Directive No. 15. Additionally, BJS will assess the availability of more detailed race and ethnicity information within the respondents' data systems.

Overview of This Information Collection

(1) Type of Information Collection: Extension, With Changes, of a Current Approved Collection.

(2) The Title of the Form/Collection: National Prisoner Statistics program.

(3) The agency form number, if any, and the applicable component of the Department sponsoring the collection: Form numbers for the questionnaire are NPS-1B (Summary of Sentenced Population Movement) and NPS-1B(T) (Prisoner Population Report—U.S. Territories). The applicable component within the Department of Justice is the Bureau of Justice Statistics, in the Office of Justice Programs.

(4) Affected public who will be asked or required to respond, as well as a brief abstract: For the NPS-1B form, 51 central reporters (one from each state and the Federal Bureau of Prisons) responsible for keeping records on inmates will be asked to provide information for the following categories:

(a) As of December 31, the number of incarcerated males and females within their custody and under their jurisdiction with maximum sentences of more than one year, one year or less, and unsentenced;

(b) The number of incarcerated individuals housed in privately operated facilities, county or other local authority correctional facilities, or in other state or Federal facilities on December 31;

(c) Prison admission information in the calendar year for the following categories: new court commitments, parole violators, other conditional release violators returned, transfers from other jurisdictions, AWOLs and escapees returned, and returns from appeal and bond;

(d) Prison release information in the calendar year for the following categories: expirations of sentence, commutations, other conditional releases, probations, supervised mandatory releases, paroles, other conditional releases, deaths by cause, AWOLs, escapes, transfers to other jurisdictions, and releases to appeal or bond;

(e) Number of incarcerated individuals under jurisdiction on December 31 by race and Hispanic origin;

(f) Number of incarcerated individuals under physical custody on December 31 classified as non-citizens, U.S. citizens, and unsentenced;

(g) Number of incarcerated individuals under physical custody on December 31 who are citizens of the U.S. with maximum sentences of more than one year, one year or less, and unsentenced;

(h) The source of U.S. citizenship data; and

(i) The aggregated rated, operational, and/or design capacities, by sex, of the state/BOP's correctional facilities at year-end.

For the NPS-1B(T) form, five central reporters from the U.S. Territories and Commonwealths of Guam, Puerto Rico, the Northern Mariana Islands, the Virgin Islands, and American Samoa will be asked to provide information for the following categories for the calendar year just ended, and, if available, for the previous calendar year:

(a) As of December 31, the number of incarcerated males and females within their custody and under their jurisdiction with maximum sentences of more than one year, one year or less and unsentenced; and an assessment of the completeness of these counts (complete, partial, or estimated);

(b) The number of incarcerated individuals under jurisdiction on December 31 but in the custody of facilities operated by other jurisdictions' authorities solely to reduce prison overcrowding;

(c) Number of incarcerated individuals under jurisdiction on December 31 by race and Hispanic origin;

(d) The aggregated rated, operational, and/or design capacities, by sex, of the territory's/Commonwealth's correctional facilities at year-end.

The Bureau of Justice Statistics uses this information in published reports and for the U.S. Congress, Executive Office of the President, practitioners, researchers, students, the media, and others interested in criminal justice statistics.

(5) Obligation to Respond: The obligation to respond is voluntary.

(6) An estimate of the total number of respondents and the amount of time estimated for an average respondent to respond: Data collection conducted in 2026, 2027, and 2028 (collecting prison data from 2025, 2026, and 2027, respectively) will require each respondent to spend an average of 4.5 total hours to respond to the NPS-1B form. 5 respondents, each taking an average of 2 hours to respond to the NPS-1B(T) form. The burden estimates are based on feedback from respondents, and the burden is reduced from the previous clearance due to the removal of the HIV/AIDS module.

(7) Estimated Time per Respondent: NPS-1B will take an average of 300 minutes (5 hours) or NPS 1B-T will take an average of 60 minutes (1 hour) to complete.

(8) Frequency: Each respondent will complete the NPS-1B or NPS 1B-T once.

(9) An estimate of the total public burden (in hours) associated with the collection: There is an estimated 795 total burden hours associated with this collection for the three years of data collection, or approximately 265 hours for each year.

(10) Total Estimate Annual Other Costs Burden: $577,000.

Jurisdiction & form | Activity | Number of respondents | Freq. | Time per response (minutes) | Total annual burden (hours) | Hourly rate * | Monetized value of respondent time
State departments of corrections and the Federal Bureau of Prisons (NPS-1B) | Assemble and report data Non-response follow-up contact, clarification questions (if needed) | 51 51 | 1 1 | 270 20 | 229.5 17 | $38.50 38.50 | $8,835.75 654.50
| Review and approve final data tabulations | 51 | 1 | 10 | 8.5 | 38.50 | 327.50
U.S. Territories and Commonwealths (NPS-1B(T)) | Assemble and report data Non-response follow-up contact, clarification questions (if needed) | 5 5 | 1 1 | 100 15 | 8.3 1.3 | 38.50 38.50 | 319.55 50.05
| Review and approve final data tabulations | 5 | 1 | 5 | 0.4 | 38.50 | 15.40
Total |  | 56 |  |  | 265 |  | 10,202.75

If additional information is required contact: Darwin Arceo, Department Clearance Officer, United States Department of Justice, Justice Management Division, Policy and Planning Staff, Two Constitution Square, 145 N Street NE, 4W-218, Washington, DC 20530.

Dated: July 22, 2025.
Darwin Arceo,
Department Clearance Officer for PRA, U.S. Department of Justice.

[FR Doc. 2025-13933 Filed 7-23-25; 8:45 am]

BILLING CODE 4410-18-P